DEPARTMENT OF COMMERCE

National Oceanic and Atmospheric Administration

RIN 0648-XA150

Marine Mammals; File No. 14259

AGENCY: National Marine Fisheries Service (NMFS), National Oceanic and Atmospheric Administration (NOAA), Commerce.

ACTION: Notice; issuance of permit.

SUMMARY: Notice is hereby given that The Burke Museum of Natural History and Culture (Julie Stein, Responsible Party), University of Washington, Box 353010, 17th Ave., NE at NE 45th Street, Seattle, WA 98195, has been issued a permit to import, export, receive, possess, analyze, and archive marine mammal parts for scientific research.

ADDRESSES: The permit and related documents are available for review upon written request or by appointment in the following offices:

Permits, Conservation and Education Division, Office of Protected Resources, NMFS, 1315 East-West Highway, Room 13705, Silver Spring, MD 20910; phone (301) 713-2289; fax (301) 713-0376;

Northwest Region, NMFS, 7600 Sand Point Way, NE, BIN C15700, Bldg. 1, Seattle, WA 98115-0700; phone (206) 526-6150; fax (206) 526-6426; and

Alaska Region, NMFS, P.O. Box 21668, Juneau, AK 99802-1668; phone (907) 586-7221; fax (907) 586-7249.

FOR FURTHER INFORMATION CONTACT: Laura Morse or Jennifer Skidmore, (301) 713-2289.

SUPPLEMENTARY INFORMATION: On January 20, 2011, notice was published in the Federal Register (76 FR 3615) that a request for a permit to import, export, receive, possess, analyze, and archive marine mammal parts for scientific research had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The permit authorizes the import, export, receipt, possession, analysis and archival of marine mammal and endangered species parts of all marine mammals under NMFS. Please refer to the following Web site for the list of species: http://www.nmfs.noaa.gov/pr/species/mammals/. No live animal takes are authorized and no incidental harassment of animals would occur. Parts would be archived by the Burke Museum and used to support research studies and incidental education. A five-year permit is requested.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: May 10, 2011.
P. Michael Payne,
Chief, Permits, Conservation and Education Division, Office of Protected Resources, National Marine Fisheries Service.

[FR Doc. 2011-12055 Filed 5-16-11; 8:45 am]

BILLING CODE 3510-22-P